DEPARTMENT OF ENERGY

[Docket No. EA-98-H]

Application for Electricity Export Authorization; Western Systems Power Pool

AGENCY: Office of Fossil Energy, DOE.

ACTION: Notice of application.

SUMMARY: The Western Systems Power Pool (WSPP) has filed an application on behalf of certain of its members to renew the electricity export authorization issued September 5, 1996, in Order EA-98-C.

DATES: Comments, protests or requests to intervene must be submitted on or before December 11, 2001.

ADDRESSES: Comments, protests or requests to intervene should be addressed as follows: Office of Coal & Power Import/Export; (FE-27), Office of Coal & Power, Office of Fossil Energy, Department of Energy, 1000 Independence Avenue, SW., Washington, DC 20585. (FAX 202-287-5736).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. 824a(e)).

On September 5, 1996, in Docket EA-98-C, the Office of Fossil Energy (FE) of the Department of Energy (DOE) authorized 42 members of the WSPP to export electric energy to Canada. In several later proceedings in the EA-98 docket, the list of authorized member-exporters was modified to add, delete, or reflect corporate name changes. The most recent order in the docket, EA-98-G, authorized 49 member companies to transmit electric energy to Canada. The international transmission facilities utilized for these exports are the owned and operated by the Bonneville Power Administration, also a WSPP member. The facilities consist of two 500-kV transmission lines at Blaine, Washington, and one 230-kV transmission line at Nelway, British Columbia, that interconnect with facilities of BC Hydro, and one 230-kV line, also at Nelway, connecting to West Kootenay Power, Limited. The construction and operation of these international transmission facilities was previously authorized by Presidential Permits PP-10, PP-46, and PP-36, respectively. The WSPP authorization to export electric energy to Canada expired on September 5, 2001.

On August 8, 2001, WSPP submitted, on behalf of certain member companies, an application to renew the electricity export authorization contained in Order EA-98-C. That application was further supplemented on August 17, 2001. The following 21 WSPP member companies now seek authorization to export electric energy to Canada: Aquila Power Corporation; Avista Corporation; Avista Energy, Inc.; Candela Energy Corporation; Edison Mission Marketing and Trading, Inc.; El Paso Electric Company; El Paso Merchant Energy, L.P.; Enron Power Marketing, Inc.; Idaho Power Company; Kansas City Power & Light; Pacific Gas and Electric Company; PacifiCorp; PanCanadian Energy Services, Inc.; Powerex Corporation; Pacific Northwest Generating Cooperative; Puget Sound Energy; Southern California Edison Company; TransAlta Energy Marketing (U.S.) Inc.; TransCanada Energy Ltd.; Tucson Electric Power Company; and UtiliCorp United, Inc.

Procedural Matters

Any persons desiring to become a party to this proceeding or to be heard by filing comments or protests to this application should file a petition to intervene, comment or protest at the address provided above in accordance with 385.211 or 385.214 of the FERC's rules of practice and procedures (18 CFR 385.211, 385.214). Fifteen copies of such petitions and protests should be filed with the DOE on or before the date listed above. Additional copies are to be filed directly with: Michael E. Small, General Counsel to the WSPP, Wright & Talisman, P.C., 1200 G Street, Suite 600, Washington, DC 20005-3802.

At the time this notice is being published, delivery of both regular and overnight mail to the Department of Energy headquarters building has been disrupted. DOE will consider facsimile transmissions to 202-287-5736, received before the closing date, as timely. Commenters should also submit original documents using traditional mail systems.

A final decision will be made on this application after the environmental impacts have been evaluated pursuant to the National Environmental Policy Act of 1969 and a determination is made by the DOE that the proposed action will not adversely impact on the reliability of the U.S. electric power supply system.

Copies of this application will be made available, upon request, for public inspection and copying at the address provided above.

Issued in Washington, DC, on November 19, 2001.
Anthony J. Como,
Deputy Director, Electric Power Regulation, Office of Coal & Power Import/Export, Office of Coal & Power Systems, Office of Fossil Energy.

[FR Doc. 01-29353 Filed 11-23-01; 8:45 am]

BILLING CODE 6450-01-P